FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202)-523-5793 or tradeanalysis@fmc.gov.

Agreement No.: 201348-002.

Agreement Name: APL/SWIRE Guam, Saipan—S. Korea, Japan Slot Charter Agreement.

Parties: American President Lines, LLC and Swire Shipping Pte. Ltd.

Filing Party: Conte Cicala; Clyde & Co. US LLP.

Synopsis: The amendment changes the name of Swire Shipping.

Proposed Effective Date: 12/20/2021.

Location: https://www2.fmc.gov/FMC.Agreements.Web/Public/AgreementHistory/34502.

Agreement No.: 201275-002.

Agreement Name: NBP/SSL Pacific-Asia Slot Charter Agreement.

Parties: NYK Bulk & Project Carriers Ltd. and Swire Shipping Pte. Ltd.

Filing Party: Conte Cicala; Clyde & Co. US LLP.

Synopsis: The amendment changes the name of Swire Shipping.

Proposed Effective Date: 12/20/2021.

Location: https://www2.fmc.gov/FMC.Agreements.Web/Public/AgreementHistory/16287.

Dated: December 23, 2021.
JoAnne O'Bryant,
Program Analyst.

[FR Doc. 2021-28272 Filed 12-28-21; 8:45 am]

BILLING CODE 6730-02-P